DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau.

Title: American Community Survey (ACS) Methods Panel Envelope Mandatory Messaging Test.

OMB Control Number: 0607-0936.

Form Number(s): ACS-1, ACS-1 (Spanish), ACS CATI, ACS CAPI, ACS Internet.

Type of Request: Emergency review.

Number of Respondents: 24,000.

Average Hours Per Response: 40 minutes.

Burden Hours: 16,000.

Needs and Uses:

The American Community Survey collects detailed socioeconomic data from about 3.5 million households in the United States and 36,000 in Puerto Rico each year. The ACS also collects detailed socioeconomic data from about 195,000 residents living in Group Quarter (GQ) facilities. An ongoing data collection effort with an annual sample of this magnitude requires that the ACS continue research, testing and evaluations aimed at improving data quality, achieving survey cost efficiencies, and improving ACS questionnaire content and related data collection materials. The ACS Methods Panel is a research program that is designed to address and respond to issues and survey needs. One of those issues relates to respondent concerns about the tone of the mandatory message on the ACS mail materials.

The outside of the envelopes that contain the instructions to respond online and the paper ACS questionnaire display the bold message, “YOUR RESPONSE IS REQUIRED BY LAW.” The prominent references to the mandatory participation in the ACS are concerning to many respondents. The Census Bureau developed the current presentation of the mandatory nature of participation based on previous research that identified a significant positive impact of these messages in encouraging high self-response rates and reducing the need for follow-up by phone or personal visits by Census Bureau interviewers. In order to be responsive to respondent concern with the prominence of the mandatory message on the envelopes, we are conducting the Envelope Mandatory Messaging Test.

This test will measure the impact of removing the phrase “YOUR RESPONSE IS REQUIRED BY LAW” from the envelopes (Attachment C) used to mail the initial package (second mailing) as well as the replacement package (fourth mailing). This phrase does not appear on other envelopes. We will continue to examine other possible revisions to the presentation of the mandatory nature of participation in the ACS, and will make future recommendations for additional testing.

We have divided the monthly production sample of 295,000 addresses in 24 nationally representative groups of approximately 12,000 addresses each. For this test, planned for the May 2015 ACS panel, we will use two randomly assigned groups for the experimental treatment group. The total sample size for the experimental treatment group is approximately 24,000 addresses. The remaining cases in the May 2015 panel will comprise the control and receive all standard ACS mailings (envelopes with the mandatory language still included). As we are using production cases for the test, the test will run through the complete three-month data collection period.

Our primary evaluation measure for this test is the self-response rate. Comparing the self-response rates between the two treatments allows us to detect at least a 1.0 percentage point difference with 80% power and α=0.1; this calculation assumes a 50% self-response rate. Additional metrics of interest include total response rate, cost analysis and the impact on ACS estimates.

Affected Public: Individuals or households,

Frequency: One-time test as part of the monthly American Community Survey,

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 16 days of publication of this notice to OIRA_Submission@omb.eop.gov or fax to (202) 395-5806.

Dated: April 1, 2015.
Sarah Brabson,
NOAA PRA Clearance Officer, submitting for Census.

[FR Doc. 2015-07862 Filed 4-3-15; 8:45 am]

BILLING CODE 3510-07-P